DEPARTMENT OF ENERGY

Notice of Orders Issued Under Section 3 of the Natural Gas Act During February 2018

| FE Docket Nos.
JORDAN COVE ENERGY PROJECT, L.P | 12-32-LNG
SHELL NA LNG | 18-14-LNG
EXCELERATE ENERGY L.P | 18-12-LNG
SUMAS DRY KILNS INC | 18-13-NG
PACIFIC GAS & ELECTRIC COMPANY | 17-166-NG
CENTRAL VALLE HERMOSO, S.A. DE C.V | 18-11-NG
CENTRAL LOMAS DE REAL, S.A. DE C.V | 18-10-NG
NORTHWEST NATURAL GAS COMPANY | 18-22-NG
CARGILL INCORPORATED | 17-08-NG
IRVING OIL COMMERCIAL GP & IRVING OIL TERMINALS OPERATIONS LLC | 15-165-NG
SHELL ENERGY NORTH AMERICA (US), L.P | 18-17-NG
UPSTREAM PETROLEUM INC | 18-21-NG
WHITE EAGLE TRADING, LLC | 18-20-NG
BROOKFIELD ENERGY MARKETING LP | 18-18-NG

AGENCY: Office of Fossil Energy, Department of Energy.

ACTION: Notice of orders.

SUMMARY: The Office of Fossil Energy (FE) of the Department of Energy gives notice that during February 2018, it issued orders granting or vacating authority to import and export natural gas, and to import and export liquefied natural gas (LNG). These orders are summarized in the attached appendix and may be found on the FE website at https://www.energy.gov/fe/downloads/listing-doefe-authorizationsorders-issued-2018-1. They are also available for inspection and copying in the U.S. Department of Energy (FE-34), Division of Natural Gas Regulation, Office of Regulation and International Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on March 20, 2018.
Robert J. Smith,
Deputy Assistant Secretary for Oil and Natural Gas (Acting).

APPENDIX

DOE/FE Orders Granting Import/Export Authorizations
Unnumbered | 02/01/18 | 12-32-LNG | Jordan Cove Energy Project, L.P | Order Dismissing Supplemental Comments Dismissing Request for Extension of Time, and Dismissing Motion to File Partial Answer.
4151 | 02/08/18 | 18-14-LNG | Shell NA LNG | Order 4151 granting blanket authority to import LNG from various international sources by vessel.
4152 | 02/08/18 | 18-12-LNG | Excelerate Energy L.P | Order 4152 granting blanket authority to import LNG from various international sources by vessel.
4153 | 02/08/18 | 18-13-NG | Sumas Dry Kilns Inc | Order 4153 granting blanket authority to import natural gas from Canada.
4154 | 02/12/18 | 17-166-NG | Pacific Gas & Electric Company | Order 4154 granting blanket authority to import natural gas from Canada.
4155 | 02/15/18 | 18-11-NG | Central Valle Hermoso, S.A. de C.V | Order 4155 granting blanket authority to import/export natural gas from/to Mexico.
4156 | 02/15/18 | 18-10-NG | Central Lomas de Real, S.A. de C.V | Order 4156 granting blanket authority to import/export natural gas from/to Mexico.
4157 | 02/28/18 | 18-22-NG | Northwest Natural Gas Company | Order 4157 granting blanket authority to import/export natural gas from/to Canada.
3989-A | 02/28/18 | 17-08-NG | Cargill Incorporated | Order 3989-A vacating blanket authority to import/export natural gas from/to Canada/Mexico, and to import LNG from various international sources by vessel.
3765-B | 02/28/18 | 15-165-NG | Irving Oil Commercial GP & Irving Oil Terminals Operations LLC | Order 3765-B granting Request to Amend long-term authority to import/export natural gas from/to Canada.
4158 | 02/28/18 | 18-17-NG | Shell Energy North America (US), L.P | Order 4158 granting blanket authority to import/export natural gas from/to Canada/Mexico, and to import LNG from various international sources by vessel.
4159 | 02/28/18 | 18-21-NG | Upstream Petroleum Inc | Order 4159 granting blanket authority to import/export natural gas from/to Canada/Mexico.
4160 | 02/28/18 | 18-20-NG | White Eagle Trading, LLC | Order 4160 granting blanket authority to import/export natural gas from/to Mexico.
4161 | 02/28/18 | 18-18-NG | Brookfield Energy Marketing LP | Order 4161 granting blanket authority to import/export natural gas from/to Canada.

[FR Doc. 2018-05966 Filed 3-22-18; 8:45 am]

BILLING CODE 6450-01-P